ENVIRONMENTAL PROTECTION AGENCY

[ER-FRL-9001-5]

Environmental Impacts Statements; Notice of Availability

Responsible Agency: Office of Federal Activities, General Information (202) 564-7146 or http://www.epa.gov/compliance/nepa/.

Weekly receipt of Environmental Impact Statements

Filed 01/30/2012 Through 02/03/2012

Pursuant to 40 CFR 1506.9.

Notice

Section 309(a) of the Clean Air Act requires that EPA make public its comments on EISs issued by other Federal agencies. EPA's comment letters on EIS are available at: http://www.epa.gov/compliance/nepa/eisdata.html.

EIS No. 20120027, Final EIS, FERC, CA, Eagle Mountain Pumped Storage Hydroelectric Project, Licensing Application for Eagle Mountain Mine, near the Town of Desert Center, Riverside County, CA, Review Period Ends: 03/12/2012, Contact: Kenneth Hogan 202-502-8434.

EIS No. 20120028, Draft EIS, USACE, CA, Clearwater Program, To Meet the Wastewater Management Needs of the Joint Outfall System (JOS) Through the Year 2050, near San Pedro, Section 404 Permit, Los Angeles County, CA, Comment Period Ends: 03/26/2012, Contact: Dr. Aaron O. Allen 805-585-2148.

EIS No. 20120029, Final EIS, FHWA, NC, Mid-Currituck Bridge Study, Transportation Improvements in the Currituck Sound Area, US-158 and NC 12, USACE Section 404 Permit, Currituck and Dare Counties, NC, Review Period Ends: 03/12/2012, Contact: John Sullivan 919-856-4346.

EIS No. 20120030, Final EIS, FHWA, AL, Helena Bypass Construction, from Shelby County Road 52 in Helena to State Route 261 near Bearden Road, Funding, USACE Section 404 Permit, Shelby County, AL, Review Period Ends: 03/12/2012, Contact: Mark D. Bartlett 334-274-6350.

Dated: February 7, 2012.
Cliff Rader,
Director, NEPA Compliance Division, Office of Federal Activities.

[FR Doc. 2012-3154 Filed 2-9-12; 8:45 am]

BILLING CODE 6560-50-P